DEPARTMENT OF ENERGY

Federal Energy Regulatory Commission

Combined Notice of Filings #1

Take notice that the Commission received the following electric corporate filings:

Docket Numbers: EC23-127-000.

Applicants: Walton County Power, LLC.

Description: Application for Authorization Under Section 203 of the Federal Power Act of Walton County Power, LLC.

Filed Date: 9/1/23.

Accession Number: 20230901-5218.

Comment Date: 5 p.m. ET 9/22/23.

Docket Numbers: EC23-128-000.

Applicants: SR DeSoto II, LLC, SR DeSoto III, LLC.

Description: Joint Application for Authorization Under Section 203 of the Federal Power Act of SR DeSoto II, LLC, et al.

Filed Date: 9/1/23.

Accession Number: 20230901-5221.

Comment Date: 5 p.m. ET 9/22/23.

Docket Numbers: EC23-129-000.

Applicants: SR Millington, LLC.

Description: Application for Authorization Under Section 203 of the Federal Power Act of SR Millington, LLC.

Filed Date: 9/1/23.

Accession Number: 20230901-5224.

Comment Date: 5 p.m. ET 9/22/23.

Take notice that the Commission received the following electric rate filings:

Docket Numbers: ER10-1342-007; ER23-283-001.

Applicants: CP Energy Marketing (US) Inc., CP Energy Marketing (US) Inc.

Description: Triennial Market Power Analysis for Southwest Region of CP Energy Marketing (US) Inc.

Filed Date: 8/31/23.

Accession Number: 20230831-5285.

Comment Date: 5 p.m. ET 10/30/23.

Docket Numbers: ER23-1851-002.

Applicants: PJM Interconnection, L.L.C.

Description: Tariff Amendment: Amended Filing of ISA and CSA,SA Nos. 6917 and 6918; Queue No. AD1-031 to be effective 7/8/2023.

Filed Date: 9/5/23.

Accession Number: 20230905-5121.

Comment Date: 5 p.m. ET 9/26/23.

Docket Numbers: ER23-2766-000.

Applicants: PJM Interconnection, L.L.C.

Description: § 205(d) Rate Filing: Original ISA, Service Agreement No. 7057; Queue No. AE2-345 to be effective 8/4/2023.

Filed Date: 9/5/23.

Accession Number: 20230905-5002.

Comment Date: 5 p.m. ET 9/26/23.

Docket Numbers: ER23-2767-000.

Applicants: Arizona Public Service Company.

Description: § 205(d) Rate Filing: Rate Schedule No. 217, Exhibit B.BKE-LIB to be effective 11/5/2023.

Filed Date: 9/5/23.

Accession Number: 20230905-5087.

Comment Date: 5 p.m. ET 9/26/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 5, 2023.
Debbie-Anne A. Reese,
Deputy Secretary.

[FR Doc. 2023-19583 Filed 9-11-23; 8:45 am]

BILLING CODE 6717-01-P